FEDERAL COMMUNICATIONS COMMISSION

47 CFR Parts 1 and 20

[GN Docket No 13-111; Report No. 3079]

Petition for Reconsideration of Action in Rulemaking Proceeding

AGENCY: Federal Communications Commission.

ACTION: Petition for Reconsideration.

SUMMARY: A Petition for Reconsideration (Petition) has been filed in the Commission's rulemaking proceeding by Lee G. Petro, on behalf of The Wright Petitioners.

DATES: Oppositions to the Petition must be filed on or before July 17, 2017. Replies to an opposition must be filed on or before July 25, 2017.

ADDRESSES: Federal Communications Commission, 445 12th Street SW., Washington, DC 20554.

FOR FURTHER INFORMATION CONTACT: Melissa Conway, Mobility Division, Wireless Telecommunications Bureau, at (202) 418-2887 or email: Melissa.Conway@fcc.gov.

SUPPLEMENTARY INFORMATION: This is a summary of the Commission's document, Report No. 3079, released June 22, 2017. The full text of the Petition is available for viewing and copying at the FCC Reference Information Center, 445 12th Street SW., Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: In the Matter of Promoting Technological Solutions to Combat Contraband Wireless Device Use in Correctional Facilities, FCC 17-25, published at 82 FR 22742, May 18, 2017, in GN Docket No. 13-111. This document is being published pursuant to 47 CFR 1.429(e). See also 47 CFR 1.4(b)(1) and 1.429(f), (g).

Number of Petitions Filed: 1.

Federal Communications Commission.
Marlene H. Dortch,
Secretary.

[FR Doc. 2017-13688 Filed 6-29-17; 8:45 am]

BILLING CODE 6712-01-P